COMMITTEE FOR PURCHASE FROM PEOPLE WHO ARE BLIND OR SEVERELY DISABLED

Correction to Notice of Proposed Addition to the Procurement List

In the document appearing on page 19878, FR Doc. E7-7525, Procurement List Proposed Additions, in the issue of Friday, April 20, 2007, in the third column, the Committee published the proposed addition of a product, Cap, Utility, Camouflage Pattern, Air Force, BDU. This notice corrects that proposed addition of the product to read as follows: Cap, Utility, Camouflage Pattern, Air Force, ABU. The other proposed additions announced in the Notice remain the same.

Patrick Rowe,
Deputy Executive Director.

[FR Doc. E7-8510 Filed 5-3-07; 8:45 am]

BILLING CODE 6353-01-P